DEPARTMENT OF JUSTICE

Notice of Lodging of Consent Decree Pursuant to the Comprehensive Environmental Response, Compensation, and Liability Act

In accordance with Departmental policy, 28 CFR 50.7, notice is hereby given that a proposed consent decree in United States v. Air Products and Chemicals, Inc., et al., Civil Action No. 1:06-cv-38, was lodged with the United States Court for the District of Maryland on January 17, 2006.

In a complaint filed with the consent decree, the United States seeks reimbursement and a declaratory judgment for costs incurred and to be incurred in connection with the Spectron, Inc. Superfund Site (“Site”), located in Elkton, Maryland, from 48 de minimis defendants pursuant to Section 107 of the Comprehensive Environmental Response, Compensation, and Liability Act (“CERCLA”), 42 U.S.C. 9607. These 48 de minimis defendants have agreed to the settlement memorialized in the consent decree. In the settlement, the settling de minimis defendants agree to pay approximately $356,391 to EPA and $409,198 to the Spectron PRP Site Group (SSG).

The Department of Justice will receive, for a period of thirty (30) days from the date of this publication, comments relating to the proposed consent decrees. Comments should be addressed to the Assistant Attorney General for the Environment and Natural Resources Division, P.O. Box 7611, Department of Justice, Washington, DC 20044-7611, and should refer to United States v. Air Products and Chemicals, Inc., et al., DOJ Ref. #90-11-2-482/4.

The proposed consent decree may be examined at the office of the United States Attorney, District of Maryland, 36 S. Charles Street, Fourth Floor, Baltimore, MD 21201, and at U.S. EPA Region III, 1650 Arch St., Philadelphia, PA 19103. A copy of the consent decree may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the consent decree without signatures and appendices, please enclose a check in the amount of $19.00 (25 cents per page reproduction cost) payable to the U.S. Treasury. To request a complete copy of the consent decree with appendices, please enclose a check in the amount of $36.25 (25 cents per page reproduction cost) payable to the U.S. Treasury.

Robert Brook,
Assistant Section Chief, Environmental Enforcement Section, Environment and Natural Resources Division.

[FR Doc. 06-1187 Filed 2-8-06; 8:45 am]

BILLING CODE 4410-15-M